DEPARTMENT OF COMMERCE

International Trade Administration

Exporters' Textile Advisory Committee; Notice of Open Meeting

A meeting of the Exporters' Textile Advisory Committee will be held on August 30, 2006 from 8 a.m.-10 a.m. at the MAGIC trade show in Las Vegas, Nevada, room # TBA. When the room number is assigned, it will be published in a future Federal Register notice.

The Exporters' Textile Advisory Committee is a national advisory committee that advises Department of Commerce officials on the identification of export barriers, and on market expansion activities. With the elimination of textile quotas under the WTO agreement on textiles and clothing, the Administration is committed to encouraging U.S. textile and apparel firms to export and remain competitive in the global market.

The meeting will be open to the public with a limited number of seats available. For further information or copies of the minutes, contact Rachel Alarid at (202) 482-5154.

Dated: July 3, 2006.
Philip J. Martello,
Acting Deputy Assistant Secretary for Textiles and Apparel.

[FR Doc. E6-10746 Filed 7-7-06; 8:45 am]

BILLING CODE 3510-DS-S